DEPARTMENT OF THE TREASURY

Submission for OMB Review; Comment Request

October 9, 2008.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before November 17, 2008 to be assured of consideration.

Internal Revenue Service (IRS)

OMB Number: 1545-1793.

Type of Review: Extension.

Title: Rev. Proc. 2002-43, Determination of Substitute Agent for a Consolidated Group.

Description: The information is needed in order for (i) A terminating common parent of a consolidated group to notify the IRS that it will terminate and to designate another corporation to be the group's substitute agent, pursuant to Treas. Reg. Sec. 1.1502-77(d)(1) or Sec. 1.1052-77A(d); (ii) the remaining members of a consolidated group to designate a substitute agent pursuant to Sec. 1.1502-77A (d); (iii) the default substitute agent to notify the IRS that it is the default substitute agent pursuant to Sec. 1.1502-77(d)(2); or (iv) requests by a member of the group for the IRS to designate a substitute agent or replace a previously designated substitute agent. The IRS will use the information to determine whether to approve the designation (if approval is required), to designate a substitute agent, or to replace a substitute agent, and to change the IRS's records to reflect the name and other information about the substitute agent.

Respondents: Businesses or other for-profit institutions.

Estimated Total Burden Hours: 400 hours.

OMB Number: 1545-1653.

Type of Review: Extension.

Title: Revenue Procedure 99-26 Secured Employee Benefits Settlement Initiative.

Description: This revenue procedure provides taxpayers options to settle cases in which they accelerated deductions for accrued employee benefits secured by a letter of credit, bond, or other similar financial instrument.

Respondents: Businesses or other for-profit institutions.

Estimated Total Burden Hours: 2,000 hours.

OMB Number: 1545-1027.

Type of Review: Extension.

Title: U.S. Property and Casualty Insurance Company Income Tax Return.

Forms: 1120-PC.

Description: Property and casualty insurance companies are required to file an annual return of income and pay the tax due. The data is used to insure that companies have correctly reported income and paid the correct tax.

Respondents: Businesses or other for-profit institutions.

Estimated Total Burden Hours: 649,218 hours.

OMB Number: 1545-0108.

Type of Review: Extension.

Title: Annual Summary and Transmittal of U.S. Information Returns.

Forms: 1096.

Description: Form 1096 is used to transmit information returns (Forms 1099, 1098, 5498, and W-2G) to the IRS Service Centers. Under IRC section 6041 and related sections, a separate Form 1096 is used for each type of return sent to the service center by the payer. It is used by IRS to summarize and categorize the transmitted forms.

Respondents: Businesses or other for-profit institutions.

Estimated Total Burden Hours: 1,016,812 hours.

OMB Number: 1545-0257.

Type of Review: Extension.

Title: Forms 8109 and 8109-B, Federal Tax Deposit Coupon; and Form 8109-C, FTD Address Change.

Forms: 8109-B, 8109, 8109-C.

Description: Federal Tax Deposit Coupons are used to deposit certain types of taxes at authorized depositaries. Coupons are sent to the IRS Centers for crediting to taxpayers' accounts. Data is used by the IRS to make the credit and to verify tax deposits claimed on the returns. The FTD Address change is used to change the address on the FTD coupons. All taxpayers required to make deposits are affected.

Respondents: Businesses or other for-profit institutions.

Estimated Total Burden Hours: 1,841,607 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Celina Elphage,
Treasury PRA Clearance Officer.

[FR Doc. E8-24668 Filed 10-16-08; 8:45 am]

BILLING CODE 4830-01-P